DEPARTMENT OF THE TREASURY

Internal Revenue Service

Open Meeting of the Taxpayer Advocacy Panel Joint Committee

AGENCY: Internal Revenue Service (IRS), Treasury.

ACTION: Notice of meeting.

SUMMARY: An open meeting of the Taxpayer Advocacy Panel Joint Committee will be conducted. The Taxpayer Advocacy Panel is soliciting public comments, ideas, and suggestions on improving customer service at the Internal Revenue Service. Due to unavoidable circumstances with the beginning of the TAP year, we will not be able to meet the 15-calendar notice threshold. This meeting will be held via teleconference.

DATES: The meeting will be held Thursday, April 26, 2022.

FOR FURTHER INFORMATION CONTACT: Rosalind Matherne at 1-888-912-1227 or 202-317-4115.

SUPPLEMENTARY INFORMATION: Notice is hereby given pursuant to Section 10(a)(2) of the Federal Advisory Committee Act, 5 U.S.C. App. (1988) that an open meeting of the Taxpayer Advocacy Panel Joint Committee will be held Thursday, April 26, 2022, at 2 p.m. Eastern Time via teleconference. The public is invited to make oral comments or submit written statements for consideration. For more information, please contact Rosalind Matherne at 1-888-912-1227 or 202-317-4115, or write TAP Office, 1111 Constitution Ave. NW, Room 1509, Washington, DC 20224 or contact us at the website: http://www.improveirs.org.

The agenda will include reports from the committees, and subcommittee discussions on priorities the TAP will focus on for the 2023 year. Public input is welcomed.

Dated: April 7, 2023.
Kevin Brown,
Acting Director, Taxpayer Advocacy Panel.

[FR Doc. 2023-07750 Filed 4-12-23; 8:45 am]

BILLING CODE 4830-01-P